POSTAL SERVICE

Sunshine Act Meeting

Date and Time: Tuesday, May 1, 2007, at 2:30 p.m.; and Wednesday, May 2, 2007, at 8:30 a.m. and 10:30 a.m.

Place: Washington, DC, at U.S. Postal Service Headquarters, 475 L'Enfant Plaza, SW., in teh Benjamin Franklin Room.

Status: May 1—2:30 p.m.—Closed; May 2—8:30 a.m.—Open; May 2—10:30 a.m.—Closed.

Matters To Be Considered:

Tuesday, May 1 at 2:30 p.m. (Closed)

1. Strategic Issues.

2. Rate Case Update.

3. Financial Update.

4. Labor Negotiations Update.

5. Personnel Matters and Compensation Issues.

6. Governors' Executive Session—Discussion of prior agenda items and Board Governance.

Wednesday, May 2 at 8:30 a.m. (Open)

1. Minutes of the Previous Meetings, January 9-10; February 27; March 6, 14, 16, 19 and 28, 2007.

Remarks of the Chairman and Vice Chairman of the Board.

3. Remarks of the Postmaster General and CEO Jack Potter.

4. Committee Reports.

5. Board of Governors Bylaw Amendments.

6. Capital Investment.

a. Additional Delivery Bar Code Sorters and Stacker Modules.

7. Quarterly Report on Service Performance.

8. Quarterly Report on Finance Performance.

9. Integrated Financial Plan Addendum.

10. Tentative Agenda for the June 19-20, 2007, meeting in Washington, DC.

Wednesday, May 2 at 10:30 a.m. (Closed)—if Needed

1. Continuation of Tuesday's closed session agenda.

Contact Person for More Information: Wendy A. Hocking, Secretary of the Board, U.S. Postal Service, 475 L'Enfant Plaza, SW., Washington, DC 20260-1000. Telephone (202) 268-4800.

Wendy A. Hocking,
Secretary.

[FR Doc. 07-2040 Filed 4-19-07; 3:40 pm]

BILLING CODE 7710-12-M